DEPARTMENT OF COMMERCE

International Trade Administration

[C-580-851]

Dynamic Random Access Memory Semiconductors from the Republic of Korea: Extension of Time Limit for Preliminary Results of the Countervailing Duty Administrative Review

AGENCY: Import Administration, International Trade Administration, Department of Commerce.

EFFECTIVE DATE: April 25, 2006.

FOR FURTHER INFORMATION CONTACT: Steve Williams at (202) 482-4619 or Andrew McAllister at (202) 482-1174; AD/CVD Operations, Office 1, Import Administration, U.S. Department of Commerce, 14th Street and Constitution Avenue, NW., Washington, DC 20230.

SUPPLEMENTARY INFORMATION:

Background

On September 28, 2005, the Department published a notice of initiation of administrative review of the countervailing duty order on dynamic random access memory semiconductors from the Republic of Korea, covering the period January 1, 2004 through December 31, 2004. See Initiation of Antidumping and Countervailing Duty Administrative Reviews and Request for Revocation in Part, 70 FR 56631. On January 12, 2006, the petitioner alleged that Hynix Semiconductor, Inc., received new subsidies.

Statutory Time Limits

Section 751(a)(3)(A) of the Tariff Act of 1930, as amended (“the Act”), requires the Department of Commerce (“the Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Preliminary Results

This administrative review is extraordinarily complicated due to the complexity of the countervailable subsidy practices found in the investigation and the new subsidy allegations. Because the Department requires additional time to review, analyze, and possibly verify the information, and to issue supplemental questionnaires, if necessary, it is not practicable to complete this review within the originally anticipated time limit (i.e., by May 3, 2006). Therefore, the Department is extending the time limit for completion of the preliminary results to not later than August 7, 2006, in accordance with section 751(a)(3)(A) of the Act.

We are issuing and publishing this notice in accordance with sections 751(a)(1) and 777(i)(1) of the Act.

Dated: April 19, 2006.
Stephen J. Claeys,
Deputy Assistant Secretary for Import Administration.

[FR Doc. E6-6196 Filed 4-24-06; 8:45 am]

BILLING CODE 3510-DS-S